DEPARTMENT OF COMMERCE

National Oceanic and Atmospheric Administration

50 CFR Part 660

[Docket No. 030828215-3215-01; I.D. 082103A]

RIN 0648-AR47

Fisheries off West Coast States and in the Western Pacific; Pacific Coast Groundfish Fishery; Groundfish Fishery Management Measures; Corrections

AGENCY: National Marine Fisheries Service (NMFS), National Oceanic and Atmospheric Administration (NOAA), Commerce.

ACTION: Final emergency rule.

SUMMARY: NMFS announces changes to the closed areas affecting the limited entry fixed gear fleet, the open access non-trawl gear fleet and the recreational fishery in southern California. For the limited entry fixed gear and open access non-trawl gear fleets, south of 34°27′ N. lat. to the U.S./Mexico border, the eastern, inshore boundary of the non-trawl rockfish conservation area (non-trawl RCA), an area closed to fishing by those fisheries, will be a boundary line approximating the 30-fm (55-m) depth contour, except in the Cowcod Conservation Areas (CCA) where the inshore boundary will remain at 20-fm (37-m) [Note: The CCA is a distinct closed area separate from the non-trawl RCA]. The western, seaward boundary of the non-trawl RCA will remain at a line approximating 150-fm (274-m). For the recreational fishery, south of 34°27′ N. lat. to the U.S./Mexico border, the seaward boundary of the open area will be marked by a boundary line approximating the 30-fm (55 m) depth contour, except in the CCA where the boundary will remain at 20-fm (37-m). [Note: The CCA is a distinct closed area separate from the non-trawl RCA.] These actions, which are authorized by the Magnuson-Stevens Fishery Conservation and Management Act (Magnuson-Stevens Act), will allow fishermen access to more abundant groundfish stocks while protecting overfished and depleted stocks. NMFS also announces several corrections to the existing RCA boundaries.

DATES: Changes to management measures are effective 0001 hours (local time) September 2, 2003, until the 2004 annual specifications and management measures are effective, unless modified, superseded, or rescinded through a publication in the Federal Register. Comments on this rule will be accepted through October 2, 2003.

ADDRESSES: Submit comments to D. Robert Lohn, Administrator, Northwest Region, NMFS, 7600 Sand Point Way NE, Seattle, WA 98115-0070; or Rod Mclnnis, Acting Administrator, Southwest Region, NMFS, 501 West Ocean Blvd, Suite 4200, Long Beach, CA 90802-4213. Information relevant to this emergency rule, which includes an Environmental Assessment/Regulatory Impact Review (EA/RIR), is available for public review during business hours at the offices of the NMFS Northwest Regional Administrator.

FOR FURTHER INFORMATION CONTACT: Jamie Goen or Carrie Nordeen (Northwest Region, NMFS), phone: 206-526-6140; fax: 206-526-6736; and e-mail: jamie.goen@noaa.gov or carrie.nordeen@noaa.gov.

SUPPLEMENTARY INFORMATION:

Electronic Access

This Federal Register document is available on the Government Printing Office's website at:http: //www.access.gpo.gov/su docs/ca/docs/aces/acesl40.html.Background information and documents are available at the NMFS Northwest Region website at:http: //www.nwr.noaa.gov/lsustfsh/gdfsh01.htm and at the Pacific Fishery Management Council's website at: http://www.pcouncil.org.

Background

The Pacific Coast Groundfish Fishery Management Plan (Groundfish FMP) and its implementing regulations at 50 CFR part 660, subpart G, regulate fishing for over 80 species of groundfish off the coasts of Washington, Oregon, and California. Annual groundfish specifications and management measures are initially developed by the Pacific Fishery Management Council (Pacific Council), and are implemented by NMFS. The groundfish specifications include optimum yields (OYs) for groundfish species and species groups. These OYs are the annual harvest targets. Management measures are implemented at the start of the season, and adjusted inseason, to allow the fishery to achieve, but not exceed, the OYs for groundfish. The specifications and management measures for the 2003 fishing year (January 1-December 31, 2003) were initially published in the Federal Register as an emergency rule for January 1-February 28, 2003 (68 FR 908, January 7, 2003) and as a proposed rule for March 1-December 31, 2003 (68 FR 936, January 7, 2003). The emergency rule was amended at 68 FR 4719, January 30, 2003, and the final rule for March 1-December 31, 2003 was published in the Federal Register on March 7, 2003 (68 FR 11182). The final rule has been subsequently amended at 68 FR 18166 (April 15, 2003), at 68 FR 23901 (May 6, 2003), at 68 FR 23924 (May 6, 2003), at 68 FR 32680 (June 2, 2003), at 68 FR 35575 (June 16, 2003), at 68 FR 40187 (July 7, 2003) and at 68 FR 43473 (July 23, 2003).

At their June 16-20, 2003 meeting in Foster City, CA, the Pacific Council, in consultation with Pacific Coast Treaty Tribes and the States of Washington, Oregon, and California, recommended changes to current groundfish management measures. Most changes were implemented on July 1, 2003 (68 FR 40187, July 7, 2003), but this change was delayed because of the need for additional analysis prior to implementation. The recommended change being implemented in this document is to move the conservation area boundary line affecting the commercial non-trawl fisheries (limited entry fixed gear and open access non-trawl) and the recreational fishery from 20-fm (37-m) to 30-fm (55-m) south of 34°27′ N. lat, except in the CCA where the boundary will remain at 20-fm (37-m). [Note: The CCA is a distinct closed area separate from the non-trawl RCA.] This increases the area in which the fishery can take place, and decreases the closed area that was implemented to protect overfished groundfish species.

When the 2003 specifications and management measures were developed for the Pacific Coast groundfish fishery in the fall of 2002, the Pacific Council's Groundfish Management Team (GMT) developed a bycatch scorecard to project and track estimated mortality of overfished groundfish species during 2003. The bycatch scorecard represents the best estimates of total catch and is an aid for making management decisions. The scorecard estimates which sectors are taking which overfished species and roughly how much of those species. This scorecard is updated throughout the year as catch data become available and was also updated using observer data. At the Pacific Council's June meeting, the scorecard was updated for inseason adjustments to be effective July 1. The proposed inseason adjustments presented at the June Council meeting remained below the OYs for all overfished species. Because estimated total mortality of all overfished species remained below their OYs for 2003, the California Department of Fish and Game (CDFG) proposed an additional inseason management measure to change the commercial non-trawl and recreational boundary line south of 34°27′ N. lat. from 20-fm (37-m) to 30-fm (55-m) to provide some additional fishing area to these sectors. The GMT and Pacific Council then reviewed analysis presented by CDFG on estimates of total mortality based on this change in the boundary line. With estimated total mortality as a result of these changes incorporated into the bycatch scorecard, estimated take of all overfished species remained below the OY for those species, except for bocaccio. Total estimated take of bocaccio, coastwide in all sectors, is predicted to be 21.72 mt in relation to a ≤20 mt OY for 2003 (1.72 mt over the OY). The Pacific Council and NMFS normally implement management measures that are projected to keep the fishery within the OYs for all species, especially overfished species. However, new information on the status of bocaccio that was presented at the June Council meeting indicates that bocaccio is healthier than had been thought at the beginning of 2003. Therefore, as explained below, taking into account this information and the severe adverse economic impacts from the 2003 management measures on the commercial and recreational non-trawl fisheries in southern California, the Pacific Council recommended the change to the boundary line off southern California.

A new stock assessment conducted in 2003 by NMFS, Southwest Fisheries Science Center shows notably increased biomass and productivity for the southern stock of bocaccio compared to the estimated biomass on the 2002 stock assessment and rebuilding analysis. Harvest specifications and management measures for 2003 were shaped by stock assessments for bocaccio, canary rockfish, and yelloweye rockfish, as well as sablefish and whiting. Based on consideration of a 2002 bocaccio stock assessment, rebuilding analysis, and a sustainability analysis, the Pacific Council recommended and NMFS approved an OY for bocaccio of ≤20 mt in 2003.

In May 2003, a new stock assessment and rebuilding analysis for bocaccio were released by the Southwest Fisheries Science Center. The new assessment is different from the bocaccio assessment in 2002, which had indicated that the 1999 year class for bocaccio was weaker than previously thought. The 2002 assessment results were driven by the 2001 Triennial Survey which showed very low abundance of bocaccio and no sign of the 1999 year class. For the new assessment, additional information on larval abundance from the California Cooperative Oceanic Fisheries Investigation, and both length and catch per unit effort (CPUE) data from recreational fisheries were used. The new data, which also assumed a new rate of natural mortality (0.15 as opposed to 0.20 in the 2002 assessment), indicate a much stronger 1999 year class and a sharp increase in abundance. The assessment and rebuilding analysis were reviewed by the Pacific Council's Stock Assessment Review Panel (STAR Panel) and presented to the Pacific Council at the Pacific Council's June 2003 meeting. To bracket uncertainty from the apparently conflicting signals in the different data sources, the STAR Panel recommended two models, STAR B1 and STAR B2. STAR B1 omits data from the Triennial Surveys and holds the estimated recruitment constant to 1959, whereas STAR B2 omits the recreational CPUE data and holds estimated recruitment constant to 1969. Each of these models de-emphasizes the other data source. The Stock Assessment Team (STAT Team) considered a third model, STAT C, that considered both data sources to be important and thus, included both data from the survey and recreational CPUE, and holds estimated recruitment constant to 1959, and places a low emphasis on the stock-recruitment relationship to stabilize estimates of post-1999 recruitment. The results of the STAT C model were not complete during the STAR Panel review. The STAR Panel did briefly discuss the STAT C model and rejected the approach of the STAT C model because the two sources of data used in the model were contradictory. The results from the STAR Panel review and the third model produced by the STAT Team were then reviewed by the Pacific Council's Scientific and Statistical Committee (SSC) at the June Council meeting. The SSC and other advisory bodies to the Pacific Council (Groundfish Advisory Panel (GAP) and GMT) made recommendations to the Pacific Council based on the new stock assessment and rebuilding analysis, which are considered to be the best available science. The SSC felt the STAT C model was a reasonable way to integrate the survey and CPUE data and, therefore, recommended use of the STAT C model for bocaccio.

Based on the new stock assessment and rebuilding analysis discussed above, the Pacific Council adopted a preliminary range of OYs for bocaccio for 2004. The range of OYs contemplated for 2004 (199-526 mt) is an order of magnitude higher than the ≤20 mt OY implemented for management in 2003. Based on the new bocaccio stock assessment and rebuilding analysis, the Pacific Council also decided it could provide some relief in 2003 to the severely constrained commercial and recreational fishers in southern California without risk to the status of the bocaccio stock.

Generally, stock assessments that are released in 2003 would only be used for management in 2004 and beyond. In this case, however, the new assessment and rebuilding analysis forecast are being considered in implementing this emergency rule to allow for a change in the management measures which is projected to cause the OY for bocaccio to be exceeded. Because of the new science for bocaccio that indicates a modest increase in bocaccio harvest in 2003 should not interfere with stock rebuilding and because of the severe restrictions commercial non-trawl and recreational fisheries in southern California are experiencing, the Pacific Council recommended to NMFS to use the knowledge of the improved bocaccio forecast as a means to relieve restrictions on southern California fisheries without additional risk to the status of the stock.

Non-Trawl RCA and Recreational Fisheries South of 34°27′ N. Lat.

Beginning in 2003, the limited entry fixed gear and open access non-trawl fleet in California has been severely constrained by low trip limits and limited nearshore fishing opportunities, with the non-trawl RCA (the area closed to most fishing with non-trawl gear) extending from the 20-fm (37-m)depth contour to latitude and longitude coordinates approximating the 150-fm (274-m) depth contour. These management measures were designed to limit the incidental take of bocaccio rockfish and keep the catch of bocaccio within its 2003 OY of no more than 20 mt. The recreational fishing fleet in California has also been similarly constrained, by a reduced season length (July - December) and has generally been restricted to fishing inshore of the 20-fm (37-m) depth contour, to minimize the incidental take of bocaccio. Prior to 2000, the recreational fishery has been year round. Since 2000, the recreational fishery has been closed for part of the year. Between 2000 and 2002, the California recreational fishery seasons have been from 8 to 10 months long. Beginning in 2001, some area restrictions were implemented. In 2003, the recreational fishery has been restricted to a 6 month season and it has only been allowed mainly inside of the 20-fm (37-m) depth contour.

Taking into account the most recent bocaccio stock assessment information discussed above and the economic hardship resulting from restrictive management measures necessary to keep the incidental catch of bocaccio within its 2003 OY, the CDFG proposed to the Pacific Council that the 2003 bocaccio OY be flexible enough to allow for a modest increase in nearshore fishing opportunity. Specifically, CDFG proposed that during the months of September-December the eastern boundary for the non-trawl RCA and recreational fisheries closed area between 34°27′ N. lat. and the U.S. border with Mexico be moved from the 20-fm (37-m) depth contour out to the 30-fm (55-m) depth contour, except in the CCA where the inshore boundary will remain at 20 fm (37 m). [Note: The CCA is a distinct closed area separate from the non-trawl RCA.] This boundary change was recommended by the Pacific Council because it would provide much needed harvest opportunity and economic relief for commercial non-trawl fishermen (limited entry fixed gear and open access non-trawl gear) and recreational fishers with an expected incidental take of an additional 2.22 mt of bocaccio. This proposal would allow commercial non-trawl and recreational fishermen some access to harvest species of groundfish that occur mainly on the continental shelf (in waters deeper than 20-fm (37-m)) and have OYs that remain largely unharvested in 2003, such as vermillion rockfish.

Development of Coordinates Approximating the 30-fm (55-m) Depth Contour

Unlike the 20-fm (37-m) depth contour which does not have latitude and longitude coordinates approximating the line, CDFG has developed a series of coordinates approximating the 30-fm (55-m) depth contour. All other depth-based boundaries for the groundfish fishery, except the 20-fm (37-m) depth contour, are defined by lines connecting specific latitude and longitude coordinates. The 20-fm (37-m) depth contour does not have a series of coordinates approximating the boundary line because it existed in management before depth-based management was implemented in the fall of 2002 and because it is primarily within State waters. Managers and enforcement officers from CDFG, along with a commercial fixed gear fisherman, met on July 2, 2003, at the GIS Lab in Monterey, CA to develop the coordinates for the 30-fm (55-m) boundary. With this emergency rule, recreational fisheries in southern California will be subject to closed areas defined by a line connecting latitude and longitude coordinates approximating a fathom contour similar to how commercial groundfish fishery participants have been managed since January 1, 2003.

The State of California has, under state law implemented on April 9, 2003, established some Marine Protected Areas (MPAs) in State waters in some areas around the Channel Islands off California. These MPAs are described as Richardson Rock, Harris Point, and Judith Rock off San Miguel, Carrington Point, and South Point off Santa Rosa Island, Painted Cave, Gulf Island, and Scorpion off Santa Cruz Island, and Anacapa Island off Anacapa Island. Fishing is prohibited in these MPAs under California law. NMFS believes it would be too confusing to the public to draw the 30-fm (55-m) area boundary through areas in State waters that will remain closed under State law. Therefore, where the 30-fm (55-m) boundary line would go through the State water area that is closed under State law, the entire area will remain closed and this is so indicated by the coordinates in this rule.

Because the effects of this new boundary line were not previously analyzed, it is not considered a routine management measure under the Groundfish FMP that can be changed through inseason action. Therefore, NMFS has analyzed this management measures in an EA. Because this is not a routine management measure, the Pacific Council recommends and NMFS is implementing an emergency rule to move the boundary line from 20-fm (37-m) to 30-fm (55-m) south of 34°27′ N. lat. (except in the CCA where the inshore boundary will remain at 20-fm (37-m) for the commercial non-trawl and recreational fleets. This action is projected to cause the 2003 OY for bocaccio to be exceeded by approximately 1.72 mt. The purpose is to relieve some of the economic pressure on the fishing industry in southern California without risk to the status of the southern stock of bocaccio.

Corrections

In addition to creating new 30-fm (55-m) RCA boundaries along the mainland coast, around the Channel Islands, and around seamounts off the State of California, this emergency rule also contains corrections to existing RCA boundaries. The first correction pertains to the 200-fm (366-m) coastwide RCA boundary. In an areas off the State of California, the 200-fm (366-m) RCA boundary was found to extend into waters as deep as 300-fm (549-m). This resulted in the groundfish trawl fleet being prohibited from fishing in areas where fishing with trawl gear should be permitted. Therefore, to better align the 200-fm (366-m) RCA boundary with the 200-fm (366-m) depth contour and allow the groundfish trawl fleet access to areas where fishing with trawl gear should be permitted, several of the coordinates for the 200- fm (366-m) RCA boundary were corrected. Throughout 2003, NMFS has clearly specified trawl RCA boundaries around islands and seamounts off California, however, we have not clearly specified the non-trawl RCA boundaries around those same islands and seamounts. This emergency rule corrects that oversight by clearly specifying the non-trawl RCA boundaries around islands and seamounts off California.

With the creation of the new 30-fm (55-m) RCA boundaries off California, coordinates were generated for additional islands (i.e., the northern Channel Islands) off California as well as the southern California islands that previously had trawl RCA boundaries. Through the process of reviewing maps of and bathymetry data for these islands, the State of California requested two name changes. This emergency rules addresses the name change by more appropriately referring to the Orange County Seamount as Lasuen Knoll and referring to Mira's San Diego Rise as San Diego Rise. Additionally, RCA boundaries have been unnecessarily generated for two of the southern Channel Islands, specifically Santa Barbara Island and San Nicholas Island. After closely reviewing maps of these islands, the State of California realized that these islands fall completely within the CCA; therefore, groundfish fishing is already prohibited around those islands seaward of the 20-fm (37-m) depth contour. [Note: The CCA is a distinct closed area separate from the non-trawl RCA.] To help minimize the number of RCA boundary coordinates, California requested that the RCA boundaries around Santa Barbara Island and San Nicholas island be removed. In light of these corrections and in an effort to be clear about which islands belong to which island groupings, this emergency rule specifies that the northern Channel Islands include San Miguel, Santa Rosa, Santa Cruz, and Anacapa; that the southern Channel Islands include Santa Catalina Island and San Clemente Island; and that the seamounts include Lasuen Knoll and San Diego Rise.

NMFS Actions

For the reasons stated herein, NMFS concurs with the Pacific Council's recommendations and hereby announces the following changes to the 2003 management measures (68 FR 11182 (March 7, 2003), as amended at 68 FR 18166 (April 15, 2003), at 68 FR 23901 (May 6, 2003), at 68 FR 23924 (May 6, 2003), at 68 FR 32680 (June 2, 2003), at 68 FR 35575 (June 16, 2003), at 68 FR 40187 (July 7, 2003) and at 68 FR 43473 (July 23, 2003)) to read as follows:

1. On page 11214, in the Federal Register document published on March 7, 2003, section IV., under A. General Definitions and Provisions, paragraph (19)(e), section (x) is revised to read as follows:

* * * * *

(x) The 150-fm (274-m) depth contour used around the southern Channel Islands and seamounts off the State of California is defined by straight lines around each island/seamount connecting all of the following points in the order stated:

(A) Santa Catalina Island

(1) 33°19.00′ N. lat., 118°15.00′ W. long.;

(2) 33°26.00′ N. lat., 118°22.00′ W. long.;

(3) 33°28.00′ N. lat., 118°28.00′ W. long.;

(4) 33°30.00′ N. lat., 118°31.00′ W. long.;

(5) 33°31.00′ N. lat., 118°37.00′ W. long.;

(6) 33°29.00′ N. lat., 118°41.00′ W. long.;

(7) 33°23.00′ N. lat., 118°31.00′ W. long.;

(8) 33°21.00′ N. lat., 118°33.00′ W. long.;

(9) 33°18.00′ N. lat., 118°28.00′ W. long.;

(10) 33°16.00′ N. lat., 118°13.00′ W. long.; and

(11) 33°19.00′ N. lat., 118°15.00′ W. long.

(B) San Clemente Island

(1) 32°48.50′ N. lat., 118°18.34′ W. long.;

(2) 32°56.00′ N. lat., 118°29.00′ W. long.;

(3) 33°03.00′ N. lat., 118°34.00′ W. long.;

(4) 33°05.00′ N. lat., 118°38.00′ W. long.;

(5) 33°03.00′ N. lat., 118°40.00′ W. long.;

(6) 32°48.00′ N. lat., 118°31.00′ W. long.;

(7) 32°43.00′ N. lat., 118°24.00′ W. long.; and

(8) 32°48.50′ N. lat., 118°18.34′ W. long.

(C) Lasuen Knoll

(1) 33°25.00′ N. lat., 118°01.00′ W. long.;

(2) 33°25.00′ N. lat., 117°58.00′ W. long.;

(3) 33°23.00′ N. lat., 117°58.00′ W. long.;

(4) 33°23.00′ N. lat., 118°01.00′ W. long.; and

(5) 33°25.00′ N. lat., 118°01.00′ W. long.

* * * * *

2. On page 32683, in the Federal Register document published on June 2, 2003, section IV., under A. General Definitions and Provisions, paragraph (19)(e), section (xiii) is revised to read as follows:

* * * * *

(xiii) The 200-fm (366-m) depth contour used between the U.S. border with Canada and the U.S. border with Mexico as a western boundary for the trawl RCA is defined by straight lines connecting all of the following points in the order stated:

* * * * *

(132) 40°37.11′ N. lat., 124°38.03′ W. long.;

(133) 40°34.22′ N. lat., 124°41.13′ W. long.;

(134) 40°32.90′ N. lat., 124°41.83i W. long.;

(135) 40°31.30′ N. lat., 124°40.97′ W. long.;

(136) 40°29.63′ N. lat., 124°38.04′ W. long.;

(137) 40°24.99′ N. lat., 124°36.37′ W. long.;

(138) 40°22.23′ N. lat., 124°31.78′ W. long.;

(139) 40°16.95′ N. lat., 124°31.93′ W. long.;

(140) 40°17.59′ N. lat., 124°45.23′ W. long.;

(141) 40°13.25′ N. lat., 124°32.36′ W. long.;

(142) 40°10.16′ N. lat., 124°24.57′ W. long.;

(143) 40°6.43′ N. lat., 124°19.19′ W. long.;

(144) 40°7.07′ N. lat., 124°17.75′ W. long.;

(145) 40°5.53′ N. lat., 124°18.02′ W. long.;

(146) 40°4.71′ N. lat., 124°18.10′ W. long.;

(147) 40°2.35′ N. lat., 124°16.57′ W. long.;

(148) 40°1.53′ N. lat., 124°9.82′ W. long.;

(149) 39°58.28′ N. lat., 124°13.51′ W. long.;

(150) 39°56.60′ N. lat., 124°12.02′ W. long.;

(151) 39°55.20′ N. lat., 124°07.96′ W. long.;

(152) 39°52.55′ N. lat., 124°09.40′ W. long.;

(153) 39°42.68′ N. lat., 124°02.52′ W. long.;

(154) 39°35.96′ N. lat., 123°59.49′ W. long.;

(155) 39°34.62′ N. lat., 123°59.59′ W. long.;

(156) 39°33.78′ N. lat., 123°56.82′ W. long.;

(157) 39°33.02′ N. lat., 123°57.07′ W. long.;

(158) 39°32.21′ N. lat., 123°59.13′ W. long.;

(159) 39°7.85′ N. lat., 123°59.07′ W. long.;

(160) 39°00.90′ N. lat., 123°57.88′ W. long.;

(161) 38°59.95′ N. lat., 123°56.99′ W. long.;

(162) 38°56.82′ N. lat., 123°57.74′ W. long.;

(163) 38°56.40′ N. lat., 123°59.41′ W. long.;

(164) 38°50.23′ N. lat., 123°55.48′ W. long.;

(165) 38°46.77′ N. lat., 123°51.49′ W. long.;

(166) 38°45.28′ N. lat., 123°51.56′ W. long.;

(167) 38°42.76′ N. lat., 123°49.76′ W. long.;

(168) 38°41.54′ N. lat., 123°47.76′ W. long.;

(169) 38°40.98′ N. lat., 123°48.07′ W. long.;

(170) 38°38.03′ N. lat., 123°45.78′ W. long.;

(171) 38°37.20′ N. lat., 123°44.01′ W. long.;

(172) 38°33.44′ N. lat., 123°41.75′ W. long.;

(173) 38°29.45′ N. lat., 123°38.42′ W. long.;

(174) 38°27.89′ N. lat., 123°38.38′ W. long.;

(175) 38°23.68′ N. lat., 123°35.40′ W. long.;

(176) 38°19.63′ N. lat., 123°33.98′ W. long.;

(177) 38°16.23′ N. lat., 123°31.83′ W. long.;

(178) 38°14.79′ N. lat., 123°29.91′ W. long.;

(179) 38°14.12′ N. lat., 123°26.29′ W. long.;

(180) 38°10.85′ N. lat., 123°25.77′ W. long.;

(181) 38°13.15′ N. lat., 123°28.18′ W. long.;

(182) 38°12.28′ N. lat., 123°29.81′ W. long.;

(183) 38°10.19′ N. lat., 123°29.04′ W. long.;

(184) 38°07.94′ N. lat., 123°28.45′ W. long.;

(185) 38°06.51′ N. lat., 123°30.89′ W. long.;

(186) 38°04.21′ N. lat., 123°31.96′ W. long.;

(187) 38°02.07′ N. lat., 123°31.3′ W. long.;

(188) 38°00.00′ N. lat., 123°29.55′ W. long.;

(189) 37°58.13′ N. lat., 123°27.21′ W. long.;

(190) 37°55.01′ N. lat., 123°27.46′ W. long.;

(191) 37°51.40′ N. lat., 123°25.18′ W. long.;

(192) 37°43.97′ N. lat., 123°11.49′ W. long.;

(193) 37°36.00′ N. lat., 123°02.25′ W. long.;

(194) 37°13.65′ N. lat., 122°54.18′ W. long.;

(195) 37°00.66′ N. lat., 122°37.84′ W. long.;

(196) 36°57.40′ N. lat., 122°28.25′ W. long.;

(197) 36°59.25′ N. lat., 122°25.54′ W. long.;

(198) 36°56.88′ N. lat., 122°25.42′ W. long.;

(199) 36°57.40′ N. lat., 122°22.62′ W. long.;

(200) 36°55.43′ N. lat., 122°22.43′ W. long.;

(201) 36°52.29′ N. lat., 122°13.18′ W. long.;

(202) 36°47.12′ N. lat., 122°07.56′ W. long.;

(203) 36°47.10′ N. lat., 122°02.11′ W. long.;

(204) 36°43.76′ N. lat., 121°59.11′ W. long.;

(205) 36°38.85′ N. lat., 122°02.20′ W. long.;

(206) 36°23.41′ N. lat., 122°00.11′ W. long.;

(207) 36°19.68′ N. lat., 122°06.93′ W. long.;

(208) 36°14.75′ N. lat., 122°01.51′ W. long.;

(210) 36°06.67′ N. lat., 121°41.06′ W. long.;

(211) 35°57.07′ N. lat., 121°34.32′ W. long.;

(212) 35°52.31′ N. lat., 121°32.45′ W. long.;

(213) 35°51.21′ N. lat., 121°30.91′ W. long.;

(214) 35°46.32′ N. lat., 121°30.30′ W. long.;

(215) 35°33.74′ N. lat., 121°20.10′ W. long.;

(216) 35°31.37′ N. lat., 121°15.23′ W. long.;

(217) 35°23.32′ N. lat., 121°11.44′ W. long.;

(218) 35°15.28′ N. lat., 121°04.45′ W. long.;

(219) 35°07.08′ N. lat., 121°00.3′ W. long.;

(220) 34°57.46′ N. lat., 120°58.23′ W. long.;

(221) 34°44.25′ N. lat., 120°58.29′ W. long.;

(222) 34°32.30′ N. lat., 120°50.22′ W. long.;

(223) 34°19.08′ N. lat., 120°31.21′ W. long.;

(224) 34°17.72′ N. lat., 120°19.26′ W. long.;

(225) 34°22.45′ N. lat., 120°12.81′ W. long.;

(226) 34°21.36′ N. lat., 119°54.88′ W. long.;

(227) 34°09.95′ N. lat., 119°46.18′ W. long.;

(228) 34°09.08′ N. lat., 119°57.53′ W. long.;

(229) 34°07.53′ N. lat., 120°06.35′ W. long.;

(230) 34°10.54′ N. lat., 120°19.07′ W. long.;

(231) 34°14.68′ N. lat., 120°29.48′ W. long.;

(232) 34°09.51′ N. lat., 120°38.32′ W. long.;

(233) 34°03.06′ N. lat., 120°35.54′ W. long.;

(234) 33°56.39′ N. lat., 120°28.47′ W. long.;

(235) 33°50.25′ N. lat., 120°09.43′ W. long.;

(236) 33°37.96′ N. lat., 120°00.08′ W. long.;

(237) 33°34.52′ N. lat., 119°51.84′ W. long.;

(238) 33°35.51′ N. lat., 119°48.49′ W. long.;

(239) 33°42.76′ N. lat., 119°47.77′ W. long.;

(240) 33°53.62′ N. lat., 119°53.28′ W. long.;

(241) 33°57.61′ N. lat., 119°31.26′ W. long.;

(242) 33°56.34′ N. lat., 119°26.4′ W. long.;

(243) 33°57.79′ N. lat., 119°26.85′ W. long.;

(244) 33°58.88′ N. lat., 119°20.06′ W. long.;

(245) 34°02.65′ N. lat., 119°15.11′ W. long.;

(246) 33°59.02′ N. lat., 119°02.99′ W. long.;

(247) 33°57.61′ N. lat., 118°42.07′ W. long.;

(248) 33°50.76′ N. lat., 118°37.98′ W. long.;

(249) 33°38.41′ N. lat., 118°17.03′ W. long.;

(250) 33°37.14′ N. lat., 118°18.39′ W. long.;

(251) 33°35.51′ N. lat., 118°18.03′ W. long.;

(252) 33°30.68′ N. lat., 118°10.35′ W. long.;

(253) 33°32.49′ N. lat., 117°51.85′ W. long.;

(254) 32°58.87′ N. lat., 117°20.36′ W. long.; and

(255) 32°35.53′ N. lat., 117°29.67′ W. long.

* * * * *

3. On page 32685 in the Federal Register document published on June 2, 2003, section IV., under A. General Definitions and Provisions, paragraph (19)(e), section (xiv) is revised to read as follows:

* * * * *

(xiv) The 200-fm (366-m) depth contour used around the southern Channel Islands and seamounts off the State of California is defined by straight lines around each island/seamount connecting all of the following points in the order stated:

(A) Santa Catalina Island

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(B) San Clemente Island

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(C) Lasuen Knoll

(1) 33°25.91′ N. lat., 117°59.44′ W. long.;

(2) 33°23.37′′ N. lat., 117°56.97′ W. long.;

(3) 33°22.82′ N. lat., 117°59.50′ W. long.;

(4) 33°25.24′ N. lat., 118°01.68′ W. long.; and

(5) 33°25.91′ N. lat., 117°59.44′ W. long.

(D) San Diego Rise

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10i N. lat., 117°50.76′ W. long.; and

(6) 32°50.30′ N. lat., 117°50.18′ W. long.

* * * * *

4. In section IV., under A. General Definitions and Provisions, paragraph (19)(e), sections (xv),(xvi), and (xviii) are added to read as follows:

* * * * *

(xv) The 30-fm (55-m) depth-contour between 34°27' N. lat. and the U.S. border with Mexico is defined by straight lines connecting all of the following points in the order stated:

(1) 34°27.00′ N. lat., 120°30.31′ W. long.;

(2) 34°25.84′ N. lat., 120°27.04′ W. long.;

(3) 34°25.16′ N. lat., 120°20.18′ W. long.;

(4) 34°25.88′ N. lat., 120°18.24′ W. long.;

(5) 34°27.26′ N. lat., 120°12.47′ W. long.;

(6) 34°26.27′ N. lat., 120°02.22′ W. long.;

(7) 34°23.41′ N. lat., 119°53.04′ W. long.;

(8) 34°23.33′ N. lat., 119°48.74′ W. long.;

(9) 34°22.31′ N. lat., 119°41.36′ W. long.;

(10) 34°21.72′ N. lat., 119°40.14′ W. long.;

(11) 34°21.25′ N. lat., 119°41.18′ W. long.;

(12) 34°20.25′ N. lat., 119°39.03′ W. long.;

(13) 34°19.87′ N. lat., 119°33.65′ W. long.;

(14) 34°18.67′ N. lat., 119°30.16′ W. long.;

(15) 34°16.95′ N. lat., 119°27.09′ W. long.;

(16) 34°13.02′ N. lat., 119°26.99′ W. long.;

(17) 34°08.62′ N. lat., 119°20.89′ W. long.;

(18) 34°06.95′ N. lat., 119°17.68′ W. long.;

(19) 34°05.93′ N. lat., 119°15.17′ W. long.;

(20) 34°08.42′ N. lat., 119°13.11′ W. long.;

(21) 34°05.23′ N. lat., 119°13.34′ W. long.;

(22) 34°04.98′ N. lat., 119°11.39′ W. long.;

(23) 34°04.55′ N. lat., 119°11.09′ W. long.;

(24) 34°04.15′ N. lat., 119°09.35′ W. long.;

(25) 34°04.89′ N. lat., 119°07.86′ W. long.;

(26) 34°04.08′ N. lat., 119°07.33′ W. long.;

(27) 34°04.01′ N. lat., 119°06.89′ W. long.;

(28) 34°05.08′ N. lat., 119°07.02′ W. long.;

(29) 34°05.27′ N. lat., 119°04.95′ W. long.;

(30) 34°04.51′ N. lat., 119°04.07′ W. long.;

(31) 34°02.26′ N. lat., 118°59.88′ W. long.;

(32) 34°01.08′ N. lat., 118°59.77′ W. long.;

(33) 34°00.94′ N. lat., 118°51.65′ W. long.;

(34) 33°59.77′ N. lat., 118°49.26′ W. long.;

(35) 34°00.04′ N. lat., 118°48.92′ W. long.;

(36) 33°59.65′ N. lat., 118°48.43′ W. long.;

(37) 33°59.46′ N. lat., 118°47.25′ W. long.;

(38) 33°59.08′ N. lat., 118°45.89′ W. long.;

(39) 34°00.21′ N. lat., 118°37.64′ W. long.;

(40) 33°59.26′ N. lat., 118°34.58′ W. long.;

(41) 33°58.07′ N. lat., 118°33.36′ W. long.;

(42) 33°53.76′ N. lat., 118°30.14′ W. long.;

(43) 33°51.00′ N. lat., 118°25.19′ W. long.;

(44) 33°50.07′ N. lat., 118°24.07′ W. long.;

(45) 33°50.16′ N. lat., 118°23.77′ W. long.;

(46) 33°48.08′ N. lat., 118°25.31′ W. long.;

(47) 33°47.07′ N. lat., 118°27.07′ W. long.;

(48) 33°46.12′ N. lat., 118°26.87′ W. long.;

(49) 33°44.15′ N. lat., 118°25.15′ W. long.;

(50) 33°43.54′ N. lat., 118°23.02′ W. long.;

(51) 33°41.35′ N. lat., 118°18.86′ W. long.;

(52) 33°39.96′ N. lat., 118°17.37′ W. long.;

(53) 33°40.12′ N. lat., 118°16.33′ W. long.;

(54) 33°39.28′ N. lat., 118°16.21′ W. long.;

(55) 33°38.04′ N. lat., 118°14.86′ W. long.;

(56) 33°36.57′ N. lat., 118°14.67′ W. long.;

(57) 33°34.93′ N. lat., 118°10.94′ W. long.;

(58) 33°35.14′ N. lat., 118°08.61′ W. long.;

(59) 33°35.69′ N. lat., 118°07.68′ W. long.;

(60) 33°36.21′ N. lat., 118°07.53′ W. long.;

(61) 33°36.43′ N. lat., 118°06.73′ W. long.;

(62) 33°36.05′ N. lat., 118°06.15′ W. long.;

(63) 33°36.32′ N. lat., 118°03.91′ W. long.;

(64) 33°35.69′ N. lat., 118°03.64′ W. long.;

(65) 33°34.62′ N. lat., 118°00.04′ W. long.;

(66) 33°34.08′ N. lat., 117°57.73′ W. long.;

(67) 33°35.57′ N. lat., 117°56.62′ W. long.;

(68) 33°35.46′ N. lat., 117°55.99′ W. long.;

(69) 33°35.98′ N. lat., 117°55.99′ W. long.;

(70) 33°35.46′ N. lat., 117°55.38′ W. long.;

(71) 33°35.21′ N. lat., 117°53.46′ W. long.;

(72) 33°33.61′ N. lat., 117°50.45′ W. long.;

(73) 33°31.41′ N. lat., 117°47.28′ W. long.;

(74) 33°27.54′ N. lat., 117°44.36′ W. long.;

(75) 33°26.63′ N. lat., 117°43.17′ W. long.;

(76) 33°25.21′ N. lat., 117°40.09′ W. long.;

(77) 33°20.33′ N. lat., 117°35.99′ W. long.;

(78) 33°16.35′ N. lat., 117°31.51′ W. long.;

(79) 33°11.53′ N. lat., 117°26.81′ W. long.;

(80) 33°07.59′ N. lat., 117°21.13′ W. long.;

(81) 33°02.21′ N. lat., 117°19.05′ W. long.;

(82) 32°56.55′ N. lat., 117°17.07′ W. long.;

(83) 32°54.61′ N. lat., 117°16.06′ W. long.;

(84) 32°52.32′ N. lat., 117°15.97′ W. long.;

(85) 32°51.48′ N. lat., 117°16.15′ W. long.;

(86) 32°51.85′ N. lat., 117°17.26′ W. long.;

(87) 32°51.55′ N. lat., 117°19.01′ W. long.;

(88) 32°49.55′ N. lat., 117°19.63′ W. long.;

(89) 32°46.71′ N. lat., 117°18.32′ W. long.;

(90) 32°36.35′ N. lat., 117°15.68′ W. long.; and

(91) 32°32.85′ N. lat., 117°15.44′ W. long.

* * * * *

5. In section IV., under A. General Definitions and Provisions, paragraph (19)(e), section (xvi) is added to read as follows:

* * * * *

(xvi) The 30-fm (55-m) depth contour around the northern Channel Islands off the State of California is defined by straight lines connecting all of the following points in the order stated:

(1) 34°01.41′ N. lat., 119°20.61′ W. long.;

(2) 34°00.98′ N. lat., 119°20.46′ W. long.;

(3) 34°00.53′ N. lat., 119°20.98′ W. long.;

(4) 34°00.17′ N. lat., 119°21.83′ W. long.;

(5) 33°59.65′ N. lat., 119°24.45′ W. long.;

(6) 33°59.68′ N. lat., 119°25.20′ W. long.;

(7) 33°59.95′ N. lat., 119°26.25′ W. long.;

(8) 33°59.87′ N. lat., 119°27.27′ W. long.;

(9) 33°59.55′ N. lat., 119°28.02′ W. long.;

(10) 33°58.63′ N. lat., 119°36.48′ W. long.;

(11) 33°57.62′ N. lat., 119°41.13′ W. long.;

(12) 33°57.00′ N. lat., 119°42.20′ W. long.;

(13) 33°56.93′ N. lat., 119°48.00′ W. long.;

(14) 33°57.70′ N. lat., 119°48.00′ W. long.;

(between coordinates (14) and (15), the boundary follows the shoreline)

(15) 33°58.00′ N. lat., 119°51.00′ W. long.;

(16) 33°58.00′ N. lat., 119°52.00′ W. long.;

(17) 33°58.54′ N. lat., 119°52.80′ W. long.;

(18) 33°59.74′ N. lat., 119°54.19′ W. long.;

(19) 33°59.97′ N. lat., 119°54.66′ W. long.;

(20) 33°59.83′ N. lat., 119°56.00′ W. long.;

(21) 33°59.18′ N. lat., 119°57.17′ W. long.;

(22) 33°57.83′ N. lat., 119°56.74′ W. long.;

(23) 33°55.71′ N. lat., 119°56.89′ W. long.;

(24) 33°53.89′ N. lat., 119°57.68′ W. long.;

(25) 33°52.93′ N. lat., 119°59.80′ W. long.;

(26) 33°52.79′ N. lat., 120°1.81′ W. long.;

(27) 33°52.51′ N. lat., 120°03.08′ W. long.;

(28) 33°53.12′ N. lat., 120°04.88′ W. long.;

(29) 33°53.12′ N. lat., 120°05.80′ W. long.;

(30) 33°52.94′ N. lat., 120°06.50′ W. long.;

(31) 33°53.80′ N. lat., 120°06.50′ W. long.;

(between coordinates (31) and (32), the boundary follows the shoreline)

(32) 33°55.00′ N. lat., 120°10.00′ W. long.;

(33) 33°54.03′ N. lat., 120°10.00′ W. long.;

(34) 33°54.58′ N. lat., 120°11.82′ W. long.;

(35) 33°57.08′ N. lat., 120°14.58′ W. long.;

(36) 33°59.50′ N. lat., 120°16.72′ W. long.;

(37) 33°59.63′ N. lat., 120°17.88′ W. long.;

(38) 34°00.30′ N. lat., 120°19.14′ W. long.;

(39) 34°00.02′ N. lat., 120°19.68′ W. long.;

(40) 34°00.08′ N. lat., 120°21.73′ W. long.;

(41) 34°00.94′ N. lat., 120°24.82′ W. long.;

(42) 34°00.97′ N. lat., 120°25.30′ W. long.;

(43) 34°01.50′ N. lat., 120°25.30′ W. long.;

(between coordinates (43) and (44), the boundary follows the shoreline)

(44) 34°01.80′ N. lat., 120°26.60′ W. long.;

(45) 34°01.05′ N. lat., 120°26.60′ W. long.;

(46) 34°01.11′ N. lat., 120°27.43′ W. long.;

(47) 34°00.96′ N. lat., 120°28.09′ W. long.;

(48) 34°01.56′ N. lat., 120°28.71′ W. long.;

(49) 34°01.80′ N. lat., 120°28.31′ W. long.;

(50) 34°03.60′ N. lat., 120°28.87′ W. long.;

(51) 34°03.60′ N. lat., 120°28.20′ W. long.;

(52) 34°05.35′ N. lat., 120°28.20′ W. long.;

(53) 34°05.30′ N. lat., 120°27.33′ W. long.;

(54) 34°05.65′ N. lat., 120°26.79′ W. long.;

(55) 34°05.69′ N. lat., 120°25.82′ W. long.;

(56) 34°07.24′ N. lat., 120°24.98′ W. long.;

(57) 34°06.00′ N. lat., 120°23.30′ W. long.;

(58) 34°03.10′ N. lat., 120°23.30′ W. long.;

(between coordinates (58) and (59), the boundary follows the shoreline)

(59) 34°03.50′ N. lat., 120°21.30′ W. long.;

(60) 34°02.90′ N. lat., 120°20.20′ W. long.;

(between coordinates (60) and (61), the boundary follows the shoreline)

(61) 34°01.80′ N. lat., 120°18.40′ W. long.;

(62) 34°03.61′ N. lat., 120°18.40′ W. long.;

(63) 34°03.25′ N. lat., 120°16.64′ W. long.;

(64) 34°04.33′ N. lat., 120°14.22′ W. long.;

(65) 34°04.11′ N. lat., 120°11.17′ W. long.;

(66) 34°03.72′ N. lat., 120°09.93′ W. long.;

(67) 34°03.81′ N. lat., 120°08.96′ W. long.;

(68) 34°03.36′ N. lat., 120°06.52′ W. long.;

(69) 34°04.80′ N. lat., 120°04.00′ W. long.;

(70) 34°04.00′ N. lat., 120°04.00′ W. long.;

(71) 34°04.00′ N. lat., 120°05.20′ W. long.;

(72) 34°01.30′ N. lat., 120°05.20′ W. long.;

(between coordinates (72) and (73), the boundary follows the shoreline)

(73) 34°00.50′ N. lat., 120°02.80′ W. long.;

(74) 34°00.49′ N. lat., 120°01.01′ W. long.;

(75) 34°04.00′ N. lat., 120°01.00′ W. long.;

(76) 34°03.99′ N. lat., 120°00.15′ W. long.;

(77) 34°03.51′ N. lat., 119°59.42′ W. long.;

(78) 34°03.79′ N. lat., 119°58.15′ W. long.;

(79) 34°04.72′ N. lat., 119°57.61′ W. long.;

(80) 34°05.14′ N. lat., 119°55.17′ W. long.;

(81) 34°04.85′ N. lat., 119°53.00′ W. long.;

(82) 34°04.50′ N. lat., 119°53.00′ W. long.;

(between coordinates (82) and (83), the boundary follows the shoreline)

(83) 34°04.00′ N. lat., 119°51.00′ W. long.;

(84) 34°04.49′ N. lat., 119°51.01′ W. long.;

(85) 34°03.79′ N. lat., 119°48.86′ W. long.;

(86) 34°03.79′ N. lat., 119°45.46′ W. long.;

(87) 34°03.27′ N. lat., 119°44.17′ W. long.;

(88) 34°03.29′ N. lat., 119°43.30′ W. long.;

(89) 34°01.71′ N. lat., 119°40.83′ W. long.;

(90) 34°01.74′ N. lat., 119°37.92′ W. long.;

(91) 34°02.07′ N. lat., 119°37.17′ W. long.;

(92) 34°02.93′ N. lat., 119°36.52′ W. long.;

(93) 34°3.48′ N. lat., 119°35.50′ W. long.;

(94) 34°02.94′ N. lat., 119°35.50′ W. long.;

(between coordinates (94) and (95), the boundary follows the shoreline)

(95) 34°02.80′ N. lat., 119°32.80′ W. long.;

(96) 34°03.56′ N. lat., 119°32.80′ W. long.;

(97) 34°02.72′ N. lat., 119°31.84′ W. long.;

(98) 34°02.20′ N. lat., 119°30.53′ W. long.;

(99) 34°01.49′ N. lat., 119°30.20′ W. long.;

(100) 34°00.66′ N. lat., 119°28.62′ W. long.;

(101) 34°00.66′ N. lat., 119°27.57′ W. long.;

(102) 34°01.40′ N. lat., 119°26.94′ W. long.;

(103) 34°01.35′ N. lat., 119°26.70′ W. long.;

(104) 34°00.80′ N. lat., 119°26.70′ W. long.;

(between coordinates (104) and (105), the boundary follows the shoreline)

(105) 34°00.40′ N. lat., 119°24.60′ W. long.;

(between coordinates (105) and (106), the boundary follows the shoreline)

(106) 34°01.00′ N. lat., 119°21.40′ W. long.;

(107) 34°01.49′ N. lat., 119°21.40′ W. long.; and

(108) 34°01.41′ N. lat., 119°20.61′ W. long.

(xvii) The 30-fm (55-m) depth contour used around southern Channel Islands off the State of California is defined by straight lines around each island/seamount connecting all of the following points in the order stated:

(A) Santa Catalina Island

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′N. lat., 118°18.04′ W. long.

(B) San Clemente Island

(1) 33°03.37′N. lat., 118°37.76′ W. long.;

(2) 33°02.72′N. lat., 118°38.12′ W. long.;

(3) 33°02.18′N. lat., 118°37.46′ W. long.;

(4) 33°00.66′N. lat., 118°37.36′ W. long.;

(5) 33°00.08′N. lat., 118°36.94′ W. long.;

(6) 33°00.11′N. lat., 118°36.00′ W. long.;

(7) 32°58.02′N. lat., 118°35.41′ W. long.;

(8) 32°56.00′N. lat., 118°33.59′ W. long.;

(9) 32°54.76′N. lat., 118°33.58′ W. long.;

(10) 32°53.97′N. lat., 118°32.45′ W. long.;

(11) 32°51.18′N. lat., 118°30.83′ W. long.;

(12) 32°50.00′N. lat., 118°29.68′ W. long.;

(13) 32°49.72′N. lat., 118°28.33′ W. long.;

(14) 32°47.88′N. lat., 118°26.09′ W. long.;

(15) 32°47.03′N. lat., 118°25.73′ W. long.;

(16) 32°47.28′N. lat., 118°24.83′ W. long.;

(17) 32°48.12′N. lat., 118°24.33′ W. long.;

(18) 32°48.74′N. lat., 118°23.39′ W. long.;

(19) 32°48.69′N. lat., 118°21.75′ W. long.;

(20) 32°49.06′N. lat., 118°20.53′ W. long.;

(21) 32°50.28′N. lat., 118°21.09′ W. long.;

(22) 32°51.73′N. lat., 118°23.86′ W. long.;

(23) 32°52.79′N. lat., 118°25.08′ W. long.;

(24) 32°54.03′N. lat., 118°26.83′ W. long.;

(25) 32°54.07′N. lat., 118°27.55′ W. long.;

(26) 32°55.49′N. lat., 118°29.04′ W. long.;

(27) 32°59.58′N. lat., 118°32.51′ W. long.;

(28) 32°59.89′N. lat., 118°32.52′ W. long.;

(29) 33°00.29′N. lat., 118°32.73′ W. long.;

(30) 33°00.85′N. lat., 118°33.05′ W. long.;

(31) 33°01.07′N. lat., 118°33.64′ W. long.;

(32) 33°02.09′N. lat., 118°35.35′ W. long.;

(33) 33°02.61′N. lat., 118°36.96′ W. long.; and

(34) 33°03.37′N. lat., 118°37.76′ W. long.

* * * * *

6. On page 11221, in section IV., under B. Limited Entry Fishery, Table 4 (South) is revised to read as follows:

* * * * *

BILLING CODE 3510-22-S

* * * * *

7. On page 11225, in section IV., under C. Trip Limits in the Open Access Fishery, Table 5 (South) is revised to read as follows:

BILLING CODE 3510-22-C

* * * * *

8. On page 11227, in section IV., under D. Recreational Fishery, paragraph (3)(b)(i)(B) is revised and paragraph (3)(b)(i)(C) is added to read as follows:

* * * * *

(3) * * *

(b) * * *

(i) Closed Areas.-* * *

(B) Between 40°10′ N. lat. and 34°27′ N. lat., recreational fishing for all groundfish, including lingcod, is prohibited seaward of the 20-fm (37-m) depth contour, except that recreational fishing for sanddabs is permitted seaward of the 20- fm (37-m) depth contour subject to the provisions in paragraph IV.D.(3)(iv).

(C) South of 34°27′ N. lat., recreational fishing for all groundfish, including lingcod, is prohibited seaward of a boundary line approximating the 30-fm (55-m) depth contour along the mainland coast and along islands and offshore seamounts (except in the CCA where fishing is prohibited seaward of the 20- fm (37-m) depth contour in paragraph (A) of this section), except that recreational fishing for sanddabs is permitted seaward of the 30-fm (55-m) depth contour subject to the provisions in paragraph IV.D.(3)(iv). Coordinates for the boundary line approximating the 30-fm (55-m) depth contour are listed in sections IV.A.(19)(e)(xv) through (xvii).

* * * * *

9. On page 11227, in section IV., under D. Recreational Fishery, paragraph (3)(b)(ii)(A) is revised and the second paragraph (3)(b)(ii)(B) is corrected to read (3)(b)(ii)(D) as follows:

* * * * *

(3) * * *

(b) * * *

(ii) RCG Complex. * * *

(A) Seasons. South of 40°10′ N. lat., recreational fishing for the RCG Complex is open from July 1 through December 31 (i.e., it's closed from January 1 through June 30). When recreational fishing for the RCG Complex is open, it is permitted only inside the 20-fm (37-m) depth contour between 40°10′ N. lat. and 34°27′ N. lat. and inside a boundary line approximating the 30-fm (55-m) depth contour south of 34°27′ N. lat., subject to the bag limits in paragraph (B) of this section. Coordinates for the boundary line approximating the 30-fm (55-m) depth contour are listed in sections IV.A.(19)(e)(xv) through (xvii).

* * * * *

10. On page 11227, in section IV., under D. Recreational Fishery, paragraphs (3)(b)(iii)(A) and (3)(b)(iv)(A) are revised and the second paragraph (3)(b)(iv) is corrected to read (3)(b)(v) and is revised as follows:

* * * * *

(3) * * *

(b) * * *

(iii) California scorpionfish. * * *

(A) Seasons. South of 40°10′ N. lat., recreational fishing for California scorpionfish is closed from March 1 through June 30 (i.e., the California scorpionfish season is open during January-February and during July-December). When recreational fishing for California scorpionfish is open, it is permitted only inside the 20-fm (37-m) depth contour between 40°10′ N. lat. and 34°27′ N. lat., subject to the bag limits in paragraph (B) of this section. South of 34°27′ N. lat., when recreational fishing for California scorpionfish is open, it is permitted only inside a boundary line approximating the 30-fm (55-m) depth contour (except at Huntington Flats between a line drawn due south from Point Fermin (33°42′30” N. lat.; 118°17′30” W. long.) and a line drawn due west from the Newport South Jetty (33°35′37” N. lat.; 117°52′50” W. long.,) recreational fishing for California scorpionfish may occur from shore to a boundary line approximating 50-fm (91-m) during July-August), subject to the bag limits in paragraph (B) of this section. Coordinates for the boundary line approximating the 30-fm (55-m) depth contour are listed in sections IV.A.(19)(e)(xv) through (xvii).

* * * * *

(iv) Linqcod-(A) Seasons. South of 40°10′ N. lat., recreational fishing for lingcod is open July 1 through December 31. When recreational fishing for lingcod is open in the south, it is permitted only inside the 20-fm (37-m) depth contour between 40°10′ N. lat. and 34°27′ N. lat. and inside a boundary line approximating the 30-fm (55-m) depth contour south of 34°27′ N. lat., subject to the bag limits in paragraph (B) of this section. Coordinates for the boundary line approximating the 30-fm (55-m) depth contour are listed in sections IV.A.(19)(e)(xv) through (xvii).

* * * * *

(v) Sanddabs. South of 40°10′ N. lat., recreational fishing for sanddabs is permitted both inshore of and within the closed areas, (i.e., recreational fishing for sanddabs is permitted in all areas south of 40°10′ N. lat.). Recreational fishing for sanddabs is permitted seaward of the 20-fm (37-m) depth contour between 40°10′ N. lat. and 34°27′ N. lat. and seaward of a boundary line approximating the 30-fm (55-m) depth contour south of 34°27′ N. lat., subject to a limit of up to 12-hooks, “Number 2” or smaller, which measure 11 mm (0.44 inches) point to shank, and up to 2 lb (0.91 kg) of weight per line. There is no bag limit, season, or size limit for sanddabs, however, it is prohibited to fillet sanddabs at sea.

* * * * *

Classification

These actions are authorized by the Magnuson-Stevens Act, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(3)(B), because providing prior notice and opportunity for comment would be impracticable. It would be impracticable because the next cumulative trip limit period for the Pacific Coast groundfish fishery begins September 1, 2003, and affording prior notice and opportunity for public comment would delay implementation of this action to after the start of the cumulative limit period. The Pacific Coast groundfish commercial fishery is managed by trip limits and area closures, most of which are based on a 2-month cumulative period (January-February, March-April, May-June, July-August, September-October, November- December). If this action is not implemented by the beginning of the next cumulative trip limit period (September 1, 2003), fishers would be unnecessarily restricted from accessing the increased area available to fishing in southern California. In addition, data for management in both the commercial and recreational fisheries lines up with these 2 month cumulative periods. If management actions are changed during a cumulative limit period, it may complicate analysis of the data by making it more difficult to determine how management measures influence data results.

There was not adequate time between when new scientific information became available for decision-making and when drafting and reviewing the regulatory package, including the environmental analysis, was complete for prior notice and opportunity for public comment. The new stock assessment for bocaccio, showing an increased biomass and higher recruitment than previously predicted, was released in May 2003. This new scientific information was then presented to the Pacific Council as a tool for decision-making at their June 16-20, 2003 meeting in Foster City, CA. While new stock assessments are generally reserved for setting the harvest levels for the following annual management cycle, 2004 in this case, the Pacific Council recommended the new information on the status of bocaccio be used for inseason management of the fishery in 2003. In 2003, groundfish fisheries coastwide have been severely restricted by large areas closed to fishing. The Pacific Council, at its June meeting, decided to use the new information on bocaccio to provide some relief to the commercial non-trawl and recreational fisheries in southern California by moving the boundary line from 20-fm (37-m) to 30-fm (55-m) south of 34°27′ N. lat. to the U.S./Mexico border. Moving the boundary line in this area made additional area in the ocean available for fishing. Because this new management measure recommended by the Pacific Council had not been previously analyzed in an environmental assessment, as required under the National Environmental Policy Act to determine potential impacts to the environment, an EA/RIR was prepared for this action following the June Council meeting. In addition to developing further data for analysis for the EA/RIR after the June Council meeting, CDFG had to develop coordinates approximating the 30-fm (55-m)depth contour. Between the approximately 2 months from the Pacific Council meeting decision to implementation of the recommendation, there was a tight time schedule to gather further information and complete the EA/RIR and regulatory package that did not allow for adequate time for prior notice and opportunity for comment.

Moving the boundary line will relieve restrictions by opening an area that was previously closed, thereby providing greater harvest opportunities than were previously scheduled for the remainder of the year. Thus, they are not subject to a 30-day delay in effectiveness under 5 U.S.C. 553(d)(1).

The AA also finds good cause to waive the requirement to provide prior notice and opportunity for public comment on this correction¹ pursuant to 5 U.S.C. 553(b)(3)(B), because providing prior notice and opportunity for comment would be impracticable. It would be impracticable because the next cumulative trip limit period for the Pacific Coast groundfish fishery begins on September 1, 2003, and affording prior notice and opportunity for public comment would result in revisions to an RCA boundary in the middle of a cumulative limit period. Revising an RCA boundary in the middle of a cumulative limit period makes that boundary more difficult to understand for the public and for enforcement agents, ultimately impeding the agency's function of managing fisheries to approach without exceeding the OYs for federally managed species. Because the Pacific Coast groundfish fishery is managed by trip limits and area closures, most of which are based on a 2-month cumulative period(January-February, March-April, May-June, July-August, September-October, November-December), this correction should be implemented by the beginning of the next cumulative trip limit period (September 1, 2003) to prevent confusion amidst the public. The corrections in this rule will allow the groundfish trawl fleet to fish in areas that would otherwise be closed. Accordingly, the corrections relieve a restriction, and therefore, pursuant to 5 U.S.C. 553(d)(1), this rule is not subject to a 30 day delay in effectiveness. These actions are taken under the authority of 50 CFR 660.323(b)(1).

¹ In addition to the changes described earlier for the emergency rule, this action would correct the 200-fm (366-m) depth contour coastwide RCA boundary to ensure that the series of coordinates describing that contour are better aligned to the actual 200-fm depth contour. This action would also clarify in the trip limit tables that RCA boundaries apply to fishing occurring in waters surrounding islands off California, and it would clarify which islands and seamounts belong to what island groups referenced in the regulations. At present, portions of the 200-fm (366-m) depth contour coordinates are more closely aligned with the 300-fm (549-m) depth contour, placing an unnecessary restriction on fishery participants. The trip limit table clarification is needed to ensure that the regulations are better understood by the public, and to better protect overfished species as soon as possible. The clarification of which islands and seamounts belong to what island groups referenced in the regulations is a minor correction to existing regulations (essentially a housekeeping change) and has no effect on the fisheries.

This emergency rule has been determined to be not significant for purposes of Executive Order 12866.

This emergency rule is exempt from the procedures of the Regulatory Flexibility Act because this rule is issued without opportunity for prior public notice and comment.

Authority: 16 U.S.C. 1801 et seq.

Dated: August 29, 2003.
Rebecca Lent,
Deputy Assistant Administrator for Regulatory Programs, National Marine Fisheries Service.

[FR Doc. 03-22669 Filed 9-2-03; 4:58 pm]

BILLING CODE 3510-22-S